DEPARTMENT OF ENERGY

[OE Docket No. PP-371]

Notice of Availability for Public Comment of Interconnection Facilities Studies Summary Prepared for the Proposed Northern Pass Transmission Project

AGENCY: Office of Electricity Delivery and Energy Reliability, U.S. Department of Energy.

ACTION: Notice of availability for public comment of interconnection facilities studies summary.

SUMMARY: Northern Pass Transmission LLC (NPT) applied to the U.S. Department of Energy (DOE) for a Presidential permit to construct, operate, maintain, and connect an electric transmission line across the U.S. border with Canada, currently referred to as the Northern Pass Project. NPT would construct and operate an overhead high-voltage direct current (HVDC) electric transmission line that is to originate at an HVDC converter station near Sherbrooke, Québec, Canada; connect to a facility in Franklin, New Hampshire, that will convert the line's direct current to alternating current (AC); and continue from there to its southern terminus in Deerfield, New Hampshire. The proposed facilities will be capable of transmitting up to 1,090 megawatts (MW) of power. The amended applications are summarized below. DOE hereby announces the availability for public comment of a summary of the interconnection facilities studies prepared for the NPT project.

DATES: Comments must be submitted on or before August 7, 2017.

ADDRESSES: Comments should be addressed to: Christopher Lawrence, Office of Electricity Delivery and Energy Reliability, OE-20, U.S. Department of Energy, 1000 Independence Avenue SW., Washington, DC 20585-0001. Because of delays in handling conventional mail, it is recommended that documents be transmitted by overnight mail, by electronic mail to Christopher.Lawrence@hq.doe.gov (preferred), or by facsimile to 202-586-8008.

FOR FURTHER INFORMATION CONTACT: Christopher Lawrence (Program Office) at 202-586-5260, or via electronic mail at Christopher.Lawrence@hq.doe.gov; or Rishi Garg (Program Attorney) at 202-586-0258, or via electronic mail at Rishi.Garg@hq.doe.gov.

SUPPLEMENTARY INFORMATION:

Background

Executive Order (EO) 10485 (Sept. 9, 1953), as amended by EO 12038 (Feb. 7, 1978), requires that a Presidential permit be issued by DOE before electricity transmission facilities may be constructed, operated, maintained, or connected at the U.S. border. DOE may issue or amend a permit if it determines that the permit is in the public interest and after obtaining favorable recommendations from the U.S. Departments of State and Defense. In determining whether issuance of a permit for a proposed action is in the public interest, DOE considers the potential environmental impacts of the proposed project, the project's impact on electricity reliability by ascertaining whether the proposed project would adversely affect the operation of the U.S. electric power supply system under normal and contingency conditions, and any other factors that DOE considers relevant to the public interest.

On October 14, 2010, NPT applied to DOE for a Presidential permit to construct, operate, maintain, and connect an HVDC transmission line across the U.S.-Canada border (the proposed Project). On July 1, 2013, NPT submitted an amended Presidential permit application to DOE. See 78 FR 50,405 (Aug. 19, 2013). On August 31, 2015, NPT further amended its Presidential permit application. See 80 FR 58,725 (Sept. 30, 2015). The amended applications are summarized below.

Applicant's Proposal

In its July 2013 amended application, NPT proposed to construct and operate a primarily overhead HVDC electric transmission line that would originate at an HVDC converter station to be constructed at the Des Cantons Substation in Val-Joli, Québec, Canada; run from there across the international border to Franklin, New Hampshire, where the current would be converted from HVDC to AC; and continue on to its southern terminus in Deerfield, New Hampshire. Under this application, the proposed facilities were to be capable of transmitting up to 1,200 MW of power.

The New Hampshire portion of the proposed Project would be a single-circuit, 300-kilovolt (kV) HVDC transmission line running approximately 153 miles from the U.S. border crossing with Canada near Pittsburg, New Hampshire, to a new HVDC-to-AC transformer facility to be constructed in Franklin, New Hampshire. From Franklin to the Project terminus at the Public Service Company of New Hampshire's existing Deerfield Substation in Deerfield, New Hampshire, the proposed Project would consist of 34 miles of 345-kV AC electric transmission line. The total length of the proposed Project would be approximately 187 miles.

NPT's August 2015 application amendment changed the proposed transmission line route by adding three miles of buried transmission line adjacent to a road not previously analyzed, adding two new transition stations (one in Bridgewater, New Hampshire and another in Bethlehem, New Hampshire, to transition the transmission line between aboveground and buried) of approximately one acre each, and increasing the amount of proposed buried transmission line from approximately eight miles to approximately 60 miles with a total proposed Project length of approximately 192 miles. In addition, the amendment proposed a shift (less than 100 feet) in the international border crossing location, changed the project size from 1,200 MW to 1,000 MW with a potential transfer capability of 1,090 MW, and included other design changes (e.g., change in converter technology and type of cable). A copy of the amended Presidential permit application and maps of the proposed Project route can be found at the DOE environmental impact statement (EIS) Web site (http://www.northernpasseis.us).

Technical Reliability Studies

DOE considers the technical reliability impact of a Presidential permit application as part of the public interest determination, and typical practice is to review a study or studies prepared for interconnection purposes with entities such as the applicable regional transmission operator. In conjunction with the Independent System Operator of New England (ISO-NE), which operates the grid interconnected to the proposed Project, and NPT, the participating transmission owner, RLC Engineering prepared interconnection facilities studies, which consist of a system impact study and sub-synchronous torsional interaction screening study. As a general practice, ISO-NE does not make such studies available to the public, as they consist of critical electric infrastructure information (CEII). CEII includes specific engineering, vulnerability, or detailed design information that could be useful to a person planning an attack on critical infrastructure. However, in the interest of its commitment to transparency, DOE has made available a redacted executive summary of the technical transmission studies, as reviewed by ISO-NE to prevent publication of CEII, on DOE's project Web site at http://www.northernpasseis.us/ [first go to the “Project Library” and then select the “Reliability Studies” section that has been added at the very top of that page]. DOE's posting of the redacted executive summary of the Project's interconnection facilities studies, as well as this public comment invitation, are meant solely to respond to public participation interests unique to this case. The posting neither represents nor will constitute a new DOE practice in reviews of future Presidential permit applications.

All comments received in response to this Notice will be posted on DOE's Presidential permit Web site at https://energy.gov/oe/services/electricity-policy-coordination-and-implementation/international-electricity-regulation/pending-applications under Docket No. PP-371 and made a part of the record in this proceeding to be considered by DOE before making a final determination on the issuance of a Presidential permit for the NPT Project.

Issued in Washington, DC, on June 28, 2017.
Brian Mills,
Director, Transmission Development, Transmission Permitting and Technical Assistance, Office of Electricity Delivery and Energy Reliability.

[FR Doc. 2017-14165 Filed 7-5-17; 8:45 am]

BILLING CODE 6450-01-P